DEPARTMENT OF DEFENSE

Office of the Secretary

[Transmittal No. 23-72]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-72, Policy Justification, and Sensitivity of Technology.

Dated: November 1, 2024.
Stephanie J. Bost,
Alternate OSD Federal Register Liaison Officer, Department of Defense.

BILLING CODE 6001-FR-P

BILLING CODE 6001-FR-C

Transmittal No. 23-72

Notice of Proposed Issuance of Letter of Offer Pursuant to Section 36(b)(1) of the Arms Export Control Act, as amended

(i) Prospective Purchaser: Government of Canada

(ii) Total Estimated Value:

Major Defense Equipment * | $ 75.2 million
Other | $238.2 million
Total | $313.4 million

(iii) Description and Quantity or Quantities of Articles or Services under Consideration for Purchase: The Government of Canada has requested to buy munitions and other systems to be integrated into MQ-9Bs purchased through Direct Commercial Sales, to include:

Major Defense Equipment (MDE):

Twelve (12) AN/APY-8 Lynx Synthetic Aperture Radars

Two hundred nineteen (219) AGM-114R2 Hellfire II Missiles

Eighteen (18) KMU-572 Tail Kits for the GBU-38 Joint Direct-Attack Munition (JDAM) and GBU-54 Laser JDAM (LJDAM)

Twelve (12) Mk82 500-lb General Purpose (GP) Bombs

Six (6) Mk82 Filled Inert Bombs

Non-MDE:

Also included are Due Regard Radars; SAGE 750 and SNC 4500 Electronic Surveillance Measures Systems; AN/ARC-210 radios; Compact Multi-Band Data Link (CMDL); KY-100M Narrowband/Wideband Terminals; KOR-24A Small Tactical Terminals; High-Bandwidth Compact Telemetry Modules (HCTM); KIV-77 cryptographic appliques and other Identification Friend or Foe (IFF) equipment; AN/PYQ-10C Simple Key Loaders (SKL); Common Munitions Built-In-Test/Reprogramming Equipment (CMBRE); FMU-139 Joint Programmable Fuses (JPF); M299 Hellfire launchers and training missiles; DSU-38 Precision Laser Guidance Sets; classified publications and technical documentation; munitions support and support equipment; secure communications, precision navigation, and cryptographic equipment; spare and repair parts, consumables, accessories, and repair and return support; unclassified software delivery and support; testing and integration support and equipment; maps and charts; personnel training and training equipment; transportation support; warranties; studies and surveys; Contractor Logistics Support (CLS); U.S. Government and contractor engineering, technical, and logistics support services; and other related elements of logistics and program support.

(iv) Military Department: Air Force (CN-D-BAB)

(v) Prior Related Cases, if any: CN-D-GBV

(vi) Sales Commission, Fee, etc., Paid, Offered, or Agreed to be Paid: None known at this time

(vii) Sensitivity of Technology Contained in the Defense Article or Defense Services Proposed to be Sold: See Attached Annex

(viii) Date Report Delivered to Congress: September 15, 2023

* As defined in Section 47(6) of the Arms Export Control Act.

POLICY JUSTIFICATION

Canada—MQ-9B Integrated Systems

The Government of Canada has requested to buy munitions and other systems to be integrated into MQ-9Bs purchased through Direct Commercial Sales, to include: twelve (12) AN/APY-8 Lynx Synthetic Aperture radars; two hundred nineteen (219) AGM-114R2 Hellfire II missiles; eighteen (18) KMU-572 tail kits for the GBU-38 Joint Direct-Attack Munition (JDAM) and GBU-54 Laser JDAM (LJDAM); twelve (12) Mk82 500-lb General Purpose (GP) bombs; and six (6) Mk82 Filled Inert bombs. Also included are Due Regard Radars; SAGE 750 and SNC 4500 Electronic Surveillance Measures Systems; AN/ARC-210 radios; Compact Multi-Band Data Link (CMDL); KY-100M Narrowband/Wideband Terminals; KOR-24A Small Tactical Terminals; High-Bandwidth Compact Telemetry Modules (HCTM); KIV-77 cryptographic appliques and other Identification Friend or Foe (IFF) equipment; AN/PYQ-10C Simple Key Loaders (SKL); Common Munitions Built-In-Test/Reprogramming Equipment (CMBRE); FMU-139 Joint Programmable Fuses (JPF); M299 Hellfire launchers and training missiles; DSU-38 Precision Laser Guidance Sets; classified publications and technical documentation; munitions support and support equipment; secure communications, precision navigation, and cryptographic equipment; spare and repair parts, consumables, accessories, and repair and return support; unclassified software delivery and support; testing and integration support and equipment; maps and charts; personnel training and training equipment; transportation support; warranties; studies and surveys; Contractor Logistics Support (CLS); U.S. Government and contractor engineering, technical, and logistics support services; and other related elements of logistics and program support. The estimated total cost is $313.4 million.

This proposed sale will support the foreign policy and national security objectives of the United States by helping to improve the military capability of Canada, a NATO ally that is an important force for ensuring political stability and economic progress, and a contributor to military, peacekeeping and humanitarian operations around the world.

The proposed sale will improve Canada's capability to meet current and future threats by enabling unmanned surveillance and reconnaissance patrols of its northern arctic territories. It will also enable Canada to optimally fulfill its North American Aerospace Defense (NORAD) and NATO missions while increasing interoperability with U.S. and NATO forces. Canada will have no difficulty absorbing these articles and services into its armed forces.

The proposed sale of this equipment and support will not alter the basic military balance in the region.

The principal contractor will be General Atomics Aeronautical Systems, Poway, CA. The purchaser typically requests offsets. Any offset agreement will be defined in negotiations between the purchaser and the contractor.

Implementation of this proposed sale will not require the assignment of any additional U.S. Government or contractor representatives to Canada.

There will be no adverse impact on U.S. defense readiness as a result of this proposed sale.

Transmittal No. 23-72

Notice of Proposed Issuance of Letter of Offer Pursuant to Section 36(b)(1) of the Arms Export Control Act

Annex

Item No. vii

(vii) Sensitivity of Technology:

1. The AN/APY-8 Lynx Synthetic Aperture Radar (SAR) and Ground Moving Target Indicator (GMTI) system provides all-weather surveillance, tracking and targeting for military and commercial customers from manned and unmanned vehicles.

2. The AGM-114-R2 Hellfire II is a missile equipped with a Semi-Active Laser (SAL) seeker that homes-in on the reflected light of a laser designator. The AGM-114R can be launched from higher altitudes than previous variants because of its enhanced guidance and navigation capabilities which include a Height-of-Burst (HOB)/proximity sensor. With its multi-purpose warhead, the missile can destroy hard, soft, and enclosed targets. Inert missiles have no explosive fill and are used for integration testing.

3. The M299 launcher provides mechanical and electrical interface between the Hellfire missile and aircraft.

4. Joint Direct-Attack Munitions (JDAM) consist of a bomb body paired with a warhead-specific tail kit containing an Inertial Navigation System (INS)/Global Positioning System (GPS) guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (i.e., FLIR, Radar, etc.) during captive carry, or from a third-party source via manual or automated aircrew cockpit entry. Inert bombs have no explosive fill and are used for integration testing.

a. The GBU-38v1 is a 500-pound JDAM, consisting of a KMU-572 tail kit and BLU-111 or Mk-82 bomb body.

b. The GBU-54 Laser Joint Direct Attack Munition (LJDAM) is a 500-pound JDAM which incorporates all the capabilities of the JDAM guidance tail kit and adds a precision laser guidance set. The LJDAM gives the weapon system an optional semi-active laser guidance in addition to the INS/GPS guidance. This provides the optional capability to strike moving targets. The GBU-54 consists of a DSU-38 laser guidance set and bomb body with appropriate KMU-5XX tail kit.

5. The SAGE 750 Electronic Surveillance Measures (ESM) System is a UK-produced, digital electronic intelligence (ELINT) sensor which analyzes the electromagnetic spectrum to map the source of active emissions. Using highly accurate Direction Finding (DF) antennas, SAGE builds target locations and provides situational awareness, advance warning of threats and the ability to cue other sensors.

6. The SNC 4500 Auto Electronic Surveillance Measures (ESM) System is a digital electronic intelligence (ELINT) sensor which analyzes the electromagnetic spectrum to map the source of active emissions. Using highly accurate Direction Finding (DF) antennas, the SNC 4500 builds target locations and provides situational awareness, advance warning of threats and the ability to cue other sensors.

7. ARC-210 radios are voice communications radio systems equipped with HAVE QUICK II and Second Generation Antijam Tactical UHF Radio for NATO (SATURN), which employ cryptographic technology. Other waveforms may be included as needed.

8. CMDL is on the leading edge of miniaturized, high-performance, wide-band data links. Operating in Ku, C, L or S-band, with both analog and digital waveforms. It is interoperable with military and commercial products including: Tactical Common Data Link (TCDL) terminals, the complete line of ROVER products, and COFDM receivers.

9. The KY-100M is a lightweight terminal for secure voice and data communications. The KY-100M provides wideband/narrowband half-duplex communication. Operating in tactical ground, marine and airborne applications, the KY-100M enables secure communication with a broad range of radio and satellite equipment.

10. The KOR-24A Small Tactical Terminal Link-16 is a command, control communications, and intelligence (C31) system incorporating high-capacity, jam-resistant, digital communication links for exchange of near real-time tactical information, including both data and voice, among air, ground, and sea elements.

11. The KIV-77 is a cryptographic applique for IFF. It can be loaded with Mode 5 classified elements.

12. The AN/PYQ-10 Simple Key Loader is a handheld device used for securely receiving, storing, and transferring data between compatible cryptographic and communications equipment.

13. Common Munitions Built-In-Test (BIT)/Reprogramming Equipment (CMBRE) is supporting equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

14. The FMU-139 Joint Programmable Fuze (JPF) is a multi-delay, multi-arm and proximity sensor compatible with general purpose blast, frag and hardened-target penetrator weapons. The JPF settings are cockpit selectable in flight when used with numerous precision-guided weapons.

15. The highest level of classification of defense articles, components, and services included in this potential sale is SECRET.

16. If a technologically advanced adversary were to obtain knowledge of the specific hardware and software elements, the information could be used to develop countermeasures that might reduce weapon system effectiveness or be used in the development of a system with similar or advanced capabilities.

17. A determination has been made that Canada can provide substantially the same degree of protection for the sensitive technology being released as the U.S. Government. This sale is necessary in furtherance of the U.S. foreign policy and national security objectives outlined in the Policy Justification.

18. All defense articles and services listed in this transmittal have been authorized for release and export to the Government of Canada.

[FR Doc. 2024-25769 Filed 11-5-24; 8:45 am]

BILLING CODE 6001-FR-P